DEPARTMENT OF COMMERCE

National Oceanic and Atmospheric Administration

RIN 0648-XP61

New England Fishery Management Council; Public Meeting

AGENCY: National Marine Fisheries Service (NMFS), National Oceanic and Atmospheric Administration (NOAA), Commerce.

ACTION: Notice of a public meeting.

SUMMARY: The New England Fishery Management Council's (Council) Groundfish Oversight Committee will meet to consider actions affecting New England fisheries in the exclusive economic zone (EEZ).

DATES: The meeting will be held on Wednesday, June 17, 2009 at 9 a.m.

ADDRESSES: The meeting will be held at the Holiday Inn, 31 Hampshire Street, Mansfield, MA; telephone: (508) 339-2200.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

Agenda:

1. The Groundfish Oversight Committee will meet to review public comments on Draft Amendment 16 to the Northeast Multispecies Fishery Management Plan (FMP). Draft Amendment 16 includes provisions to continue the rebuilding of groundfish stocks and includes proposed measures for both the commercial and recreational groundfish fisheries. After reviewing public comments and reports of the Groundfish Advisory Panel and the Recreational Advisory Panel, the Committee will develop recommendations for the selection of alternatives for a proposed action for the final amendment. The Committee's recommendations will be delivered to the full Council at its meeting in Portland Maine, on June 23 - 25, 2009.

2. Other business.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: May 27, 2009.
Tracey L Thompson,
Acting Director, Office of Sustainable Fisheries, National Marine Fisheries Service.

[FR Doc. E9-12674 Filed 6-1-09; 8:45 am]

BILLING CODE 3510-22-S